DEPARTMENT OF THE INTERIOR

Fish and Wildlife Service

[FWS-R8-ES-2014-N009; FXES1113080000-145-FF08E00000]

Endangered and Threatened Wildlife and Plants; Draft Recovery Plan for Arctostaphylos Pallida (Pallid Manzanita)

AGENCY: Fish and Wildlife Service, Interior.

ACTION: Notice of document availability.

SUMMARY: We, the U.S. Fish and Wildlife Service, announce the availability of the Draft Recovery Plan for Arctostaphylos pallida (pallid manzanita) for public review and comment. The recovery plan includes recovery objectives and criteria, and specific actions necessary to achieve removal of the species from the Federal Lists of Endangered and Threatened Wildlife and Plants.

DATES: We must receive any comments on the draft recovery plan on or before June 2, 2014.

ADDRESSES: You may obtain a copy of the recovery plan from our Web site at http://www.fws.gov/endangered/species/recovery-plans.html. Alternatively, you may contact the Sacramento Fish and Wildlife Office, U.S. Fish and Wildlife Service, 2800 Cottage Way, Suite W-2605, Sacramento, CA 95825 (telephone 916-414-6700).

FOR FURTHER INFORMATION CONTACT: Jennifer Norris, Field Supervisor, at the above street address or telephone number (see ADDRESSES).

SUPPLEMENTARY INFORMATION:

Background

Recovery of endangered or threatened animals and plants to the point where they are again secure, self-sustaining members of their ecosystems is a primary goal of our endangered species program and the Endangered Species Act of 1973, as amended (Act; 16 U.S.C. 1531 et seq.). Recovery means improvement of the status of listed species to the point at which listing is no longer appropriate under the criteria specified in section 4(a)(1) of the Act. The Act requires the development of recovery plans for listed species, unless such a plan would not promote the conservation of a particular species.

We listed Arctostaphylos pallida throughout its entire range on April 22, 1998 (63 FR 19842). The species is endemic to the San Francisco East Bay, and currently consists of two naturally occurring populations and an out-planted population, totaling 1,353 mature plants. Arctostaphylos pallida requires frequent summertime fog, and, as a component of the maritime chaparral vegetation type, it occurs on relatively cool, moist, and stable sites in close proximity to the San Francisco Bay. It is highly shade intolerant and adapted to a particular fire regime. The species requires fire for natural seed germination; however, too frequent a fire regime, one that depletes the soil seed bank before enough seeds have become deeply buried enough in the soil to withstand fire, represents a significant threat to the species. Approximately one-third of all plants occur within the backyards of homeowners, and almost all individuals occur in close proximity to human-built structures. These plants represent an extreme wildfire hazard to human-built structures, and have been targeted for removal to reduce the threat of wildfire. Finally, an incurable and virulent nonnative pathogen, Phytophthora cinnamomi, has been identified as killing A. pallida plants at two locations.

Recovery Plan Goals

The purpose of a recovery plan is to provide a framework for the recovery of species so that protection under the Act is no longer necessary. A recovery plan includes scientific information about the species and provides criteria that enable us to gauge whether downlisting or delisting the species is warranted. Furthermore, recovery plans help guide our recovery efforts by describing actions we consider necessary for each species' conservation and by estimating time and costs for implementing needed recovery measures.

The ultimate goal of this recovery plan is to recover Arctostaphylos pallida so that it can be delisted. To meet the recovery goal, the following objectives have been identified:

1. Minimize the spread of Phytophthora cinnamomi.

2. Treat stands infected with Phytophthora cinnamomi.

3. Manage native and nonnative vegetation that shades Arctostaphylos pallida.

4. Expand existing stands.

5. Establish additional stands.

6. Ensure stands are protected from incompatible uses and incompatible wildfire fuels-reduction activities.

As Arctostaphylos pallida meets reclassification and recovery criteria, we will review its status and consider it for removal from the Federal Lists of Endangered and Threatened Wildlife and Plants.

Public Comments Solicited

We solicit written comments on the draft revised recovery plan described in this notice. All comments received by the date specified above will be considered in development of a final recovery plan for Arctostaphylos pallida. You may submit written comments and information by mail or in person to the Sacramento Fish and Wildlife Office at the above address (see ADDRESSES).

Public Availability of Comments

Before including your address, phone number, email address, or other personal identifying information in your comment, you should be aware that your entire comment—including your personal identifying information—may be made publicly available at any time. While you can ask us in your comment to withhold your personal identifying information from public review, we cannot guarantee that we will be able to do so.

Authority

We developed our recovery plan under the authority of section 4(f) of the Act, 16 U.S.C. 1533(f). We publish this notice under section 4(f) of the Endangered Species Act of 1973, as amended (16 U.S.C. 1531 et seq.).

Dated: February 25, 2014.
Alexandra Pitts,
Acting Regional Director, Pacific Southwest Region.

[FR Doc. 2014-04586 Filed 2-28-14; 8:45 am]

BILLING CODE 4310-55-P